OFFICE OF THE UNITED STATES TRADE REPRESENTATIVE

Request for Comments on Negotiating Objectives With Respect to Malaysia's Participation in the Proposed Trans-Pacific Partnership Trade Agreement

AGENCY: Office of the United States Trade Representative (USTR)

ACTION: Request for comments on negotiating objectives with respect to Malaysia's participation in the ongoing negotiations of a Trans-Pacific Partnership (TPP) trade agreement, and notice of public hearing.

SUMMARY: The United States intends to commence negotiations with Malaysia as part of the ongoing negotiations of a TPP trade agreement. Including Malaysia in the TPP negotiations furthers the objective of achieving a high-standard, broad-based Asia-Pacific regional agreement. USTR is seeking public comments on all elements related to Malaysia's participation in the TPP negotiations in order to develop U.S. negotiating positions.

DATES: Persons wishing to testify orally at the hearing must provide written notification of their intention, as well as their testimony, by November 10, 2010. A hearing will be held in Washington, DC, on November 19, 2010. Written comments are due by noon, November 22, 2010.

ADDRESSES: Submissions via on-line: http://www.regulations.gov. For alternatives to on-line submissions please contact Gloria Blue, Executive Secretary, Trade Policy Staff Committee (TPSC), at (202) 395-3475.

FOR FURTHER INFORMATION CONTACT: For procedural questions concerning written comments, please contact Gloria Blue at the above number. Questions regarding the environmental review of the TPP trade agreement should be directed to David Brooks, Environment and Natural Resources Section, USTR, at (202) 395-7320. All other questions regarding the TPP trade agreement should be directed to David Bisbee, Deputy Assistant USTR for Southeast Asia and the Pacific, at (202) 395-6813.

SUPPLEMENTARY INFORMATION:

1. Background

On October 5, 2010, after having consulted with relevant Congressional committees and reached consensus on Malaysia's participation with the other TPP negotiating partners (Australia, Brunei Darussalam, Chile, New Zealand, Peru, Singapore and Vietnam), the USTR informed Congress that the President intends to commence negotiations with Malaysia in the context of the ongoing negotiations of the TPP. The objective of this negotiation is to achieve a high-standard, 21st century agreement with a membership and coverage that provides economically significant market access opportunities for America's workers, farmers, ranchers, service providers, and small businesses. The addition of Malaysia to the initial group of TPP negotiating partners will contribute meaningfully to the achievement of these goals.

In addition, under the Trade Act of 1974, as amended (19 U.S.C. 2151, 2153), in the case of an agreement such as the proposed TPP trade agreement, the President must (i) afford interested persons an opportunity to present their views regarding any matter relevant to the proposed agreement, (ii) designate an agency or inter-agency committee to hold a public hearing regarding the proposed agreement, and (iii) seek the advice of the U.S. International Trade Commission (ITC) regarding the probable economic effects on U.S. industries and consumers of the removal of tariffs and non-tariff barriers on imports pursuant to the proposed agreement.

USTR intends to hold a public hearing on matters related to Malaysia's participation in the TPP negotiations on November 19, 2010. In addition, USTR has requested the ITC to provide advice to USTR on the probable economic effects of including Malaysia in a TPP agreement.

2. Public Comments

To assist USTR as it develops its negotiating objectives for the agreement, the TPSC Chair invites interested parties to submit written comments and/or oral testimony at a public hearing on matters relevant to Malaysia's participation in the TPP negotiations. Comments and testimony may address the reduction or elimination of tariffs or non-tariff barriers on any articles provided for in the Harmonized Tariff Schedule of the United States (HTSUS) that are products of Malaysia, any concession that should be sought by the United States, or any other matter relevant to the inclusion of Malaysia in the proposed TPP agreement. The TPSC Chair invites comments on all of these matters and, in particular, seeks comments addressed to:

(a) General and product-specific negotiating objectives for Malaysia in the context of this proposed regional agreement.

(b) Economic costs and benefits to U.S. producers and consumers of removal of tariffs and removal or reduction in non-tariff barriers on articles traded with Malaysia.

(c) Treatment of specific goods (described by HTSUS numbers) under the proposed regional agreement, including comments on—

(1) Product-specific import or export interests or barriers,

(2) experience with particular measures that should be addressed in the negotiations, and

(3) approach to tariff negotiations, including recommended staging and ways to address export priorities and import sensitivities related to Malaysia in the context of this regional agreement.

(d) Adequacy of existing customs measures to ensure that qualifying imported goods from TPP countries, including Malaysia, receive preferential treatment, and appropriate rules of origin for goods entering the United States under the proposed regional agreement.

(e) Existing sanitary and phytosanitary measures and technical barriers to trade imposed by Malaysia that should be addressed in the negotiations.

(f) Existing barriers to trade in services between the United States and Malaysia that should be addressed in the negotiations.

(g) Relevant electronic commerce issues that should be addressed in the negotiations.

(h) Relevant trade-related intellectual property rights issues that should be addressed in the negotiations.

(i) Relevant investment issues that should be addressed in the negotiations.

(j) Relevant competition-related matters that should be addressed in the negotiations.

(k) Relevant government procurement issues that should be addressed in the negotiations.

(l) Relevant environmental issues that should be addressed in the negotiations.

(m) Relevant labor issues that should be addressed in the negotiations.

In addition to the matters described above, USTR is addressing new and emerging issues in this proposed regional agreement. Specifically, USTR is considering new approaches designed to promote innovation and competitiveness, encourage new technologies and emerging economic sectors, increase the participation of small- and medium-sized businesses in trade, and support the development of efficient production and supply chains that include U.S. firms in order to encourage firms to invest and produce in the United States. The TPSC Chair invites comments regarding how Malaysia's participation in the negotiations might affect these new approaches. The TPSC Chair also invites comments on the impact of Malaysia's participation in the negotiations on other trade-related priorities in this regional agreement, including environmental protection and conservation, transparency, workers rights and protections, development, and other issues.

USTR has already provided notice and requested comments on the scope for an environmental review of the proposed TPP trade agreement (see 75 FR 14470, March 25, 2010). As described above, the present notice invites comments on, among other topics, environmental issues to be addressed in the TPP negotiations to take into account Malaysia's participation in the negotiation. Further comments are also invited on the environmental review, including possible changes in the scope or other issues that should be addressed in the review. At a later date, USTR, through the TPSC, will publish notice of reviews regarding the impact of the proposed agreement on U.S. employment and labor markets. These reviews will take into account Malaysia's participation in the negotiations.

A hearing will be held on November 19, 2010, in Rooms 1, and 2, 1724 F Street, NW., Washington, DC. Persons wishing to testify at the hearing must provide written notification of their intention by November 10, 2010. The notification should include: (1) The name, address, and telephone number of the person presenting the testimony; and (2) a short (one or two paragraph) summary of the presentation, including the subject matter and, as applicable, the product(s) (with HTSUS numbers), service sector(s), or other subjects (such as investment, intellectual property and/or government procurement) to be discussed. A copy of the testimony must accompany the notification. Remarks at the hearing should be limited to no more than five minutes to allow for possible questions from the TPSC. Persons with mobility impairments who will need special assistance in gaining access to the hearing should contact the TPSC Executive Secretary.

Interested persons, including persons who participate in the hearing, may submit written comments by no later than noon, Monday, November 22, 2010.

3. Requirements for Submissions

Persons submitting comments must do so in English and must identify (on the first page of the submission) the “Participation of Malaysia in the Trans-Pacific Partnership Trade Negotiations.”

In order to ensure the timely receipt and consideration of comments, USTR strongly encourages commenters to make on-line submissions, using the http://www.regulations.gov Web site. Comments should be submitted under the following docket: USTR-2010-0031. To find the docket, enter the docket number in the “Enter Keyword or ID” window at the http://www.regulations.gov home page and click “Search.” The site will provide a search-results page listing all documents associated with this docket. Find a reference to this notice by selecting “Notices” under “Document Type” on the search-results page, and click on the link entitled “Submit a Comment.” (For further information on using the www.regulations.gov Web site, please consult the resources provided on the Web site by clicking on the “Help” tab.)

The http://www.regulations.gov Web site provides the option of making submissions by filling in a comments field, or by attaching a document. USTR prefers submissions to be provided in an attached document. If a document is attached, it is sufficient to type “See attached” in the “Type comment & Upload File” field. USTR prefers submissions in Microsoft Word (.doc) or Adobe Acrobat (.pdf). If the submission is in an application other than those two, please indicate the name of the application in the “Comments” field.

For any comments submitted electronically containing business confidential information, the file name of the business confidential version should begin with the characters “BC”. Any page containing business confidential information must be clearly marked “BUSINESS CONFIDENTIAL” on the top of that page. Filers of submissions containing business confidential information must also submit a public version of their comments. The file name of the public version should begin with the character “P”. The “BC” and “P” should be followed by the name of the person or entity submitting the comments or reply comments. Filers submitting comments containing no business confidential information should name their file using the character “P”, followed by the name of the person or entity submitting the comments.

Please do not attach separate cover letters to electronic submissions; rather, include any information that might appear in a cover letter in the comments themselves. Similarly, to the extent possible, please include any exhibits, annexes, or other attachments in the same file as the submission itself, not as separate files.

USTR strongly urges submitters to file comments through regulations.gov, if at all possible. Any alternative arrangements must be made with Ms. Blue in advance of transmitting a comment. Ms. Blue should be contacted at (202) 395-3475. General information concerning USTR is available at http://www.ustr.gov.

Carmen Suro-Bredie,
Chair, Trade Policy Staff Committee.

[FR Doc. 2010-26332 Filed 10-19-10; 8:45 am]

BILLING CODE 3190-W1-P